DEPARTMENT OF ENERGY

Federal Energy Regulatory Commission

Combined Notice of Filings #1

Take notice that the Commission received the following electric rate filings:

Docket Numbers: ER12-2159-003.

Applicants: Canadian Hills Wind, LLC.

Description: Notice of Non-Material Change in Status of Canadian Hills Wind, LLC.

Filed Date: 6/3/13.

Accession Number: 20130603-5167.

Comments Due: 5 p.m. ET 6/24/13.

Docket Numbers: ER13-535-003.

Applicants: PJM Interconnection, L.L.C.

Description: Compliance Filing to 5/2/2013 MOPR Order in ER13-535-000, 001 to be effective 2/5/2013.

Filed Date: 6/3/13.

Accession Number: 20130603-5162.

Comments Due: 5 p.m. ET 6/24/13.

Docket Numbers: ER13-692-004.

Applicants: Midcontinent Independent System Operator, Inc.

Description: 06-03-2013 OASIS Compliance Filing to be effective 6/4/2013.

Filed Date: 6/4/13.

Accession Number: 20130604-5000.

Comments Due: 5 p.m. ET 6/25/13.

Docket Numbers: ER13-983-000.

Applicants: Arizona Public Service Company.

Description: Refund Report for MPP Westwing Substation Interconnection Construction Agreement to be effective N/A.

Filed Date: 6/3/13.

Accession Number: 20130603-5147.

Comments Due: 5 p.m. ET 6/24/13.

Docket Numbers: ER13-1346-000.

Applicants: Mesa Wind Power Corporation.

Description: Supplement to April 26, 2013 Mesa Wind Power Corporation tariff filing.

Filed Date: 6/3/13.

Accession Number: 20130603-5120.

Comments Due: 5 p.m. ET 6/24/13.

Docket Numbers: ER13-1630-000.

Applicants: California Independent System Operator Corporation, AES Huntington Beach, L.L.C.

Description: Amendments to RMR Agreement to be effective 6/26/2013.

Filed Date: 6/3/13.

Accession Number: 20130603-5161.

Comments Due: 5 p.m. ET 6/24/13.

Docket Numbers: ER13-1631-000.

Applicants: Midcontinent Independent System Operator, Inc.

Description: Request for Waiver of certain tariff provisions of Midcontinent Independent System Operator, Inc.

Filed Date: 6/4/13.

Accession Number: 20130604-5039.

Comments Due: 5 p.m. ET 6/25/13.

Docket Numbers: ER13-1632-000.

Applicants: Chandler Wind Partners, LLC.

Description: Chandler Wind Partners, LLC submits First Revised MBR to be effective 6/5/2013.

Filed Date: 6/4/13.

Accession Number: 20130604-5065.

Comments Due: 5 p.m. ET 6/25/13.

Docket Numbers: ER13-1633-000.

Applicants: Westar Energy, Inc.

Description: Westar Energy, Inc. submits Nemaha-Marshall Electric Cooperative Association, Inc. to be effective 6/1/2013.

Filed Date: 6/4/13.

Accession Number: 20130604-5090.

Comments Due: 5 p.m. ET 6/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2013.
Nathaniel J. Davis, Sr.,
Deputy Secretary.

[FR Doc. 2013-13767 Filed 6-10-13; 8:45 am]

BILLING CODE 6717-01-P